DEPARTMENT OF VETERANS AFFAIRS

Advisory Committee: National Academic Affiliations Council, Notice of Meeting

The Department of Veterans Affairs (VA) gives notice under the Federal Advisory Committee Act that a meeting of the National Academic Affiliations Council (NAAC) will be held September 17, 2018-September 18, 2018 in the VA Office of Academic Affiliations Conference Room 4040, 4th Floor, 811 Vermont Avenue NW, Washington, DC 20420. The September 17th session will begin at 8:30 a.m. and end at 4:30 p.m.; and on September 18, 2018, the session will begin at 8:30 a.m. and adjourn by 4:15 p.m. The meetings are open to the public.

The purpose of the Council is to advise the Secretary on matters affecting partnerships between VA and its academic affiliates.

On September 17, 2018, the Council will review the status of its previous recommendations and receive an informational briefing on the modernization of VA's electronic health record. The Council will explore the recent activities of the NAAC Diversity and Inclusion Subcommittee and have an open discussion with Dr. Carolyn Clancy, Former Executive in Charge and currently assigned oversight responsibilities for the Offices of Academic Affiliations and Research and Development. NAAC members will receive presentations on VA's Care in the Community program and new VA programs for licensing space from community partners.

On September 18, 2018, the Council will explore the VA Telehealth Program and related educational issues. NAAC members will get brief updates on items of continued interest such as the waiver processes for those VA employees having relationships with for-profit educational institutions. During the afternoon, the Council will focus its attention on rural health and various new authorities and programs conferred by the MISSION Act. The Council will receive public comments from 4:15 p.m. to 4:30 p.m. on September 17, 2018 and again at or before 3:45 p.m. to 4:00 p.m. on September 18, 2018.

Interested persons may attend and present oral statements to the Council. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting or at any time, via email to, Steve.Trynosky@va.gov, or by mail to Stephen K. Trynosky JD, MPH, MMAS, Designated Federal Officer, Office of Academic Affiliations (10A2D), 810 Vermont Avenue NW, Washington, DC 20420. Any member of the public wishing to attend or seeking additional information should contact Mr. Trynosky via email or by phone at (202) 461-6723. Because the meeting will be held in a Government building, anyone attending must be prepared to submit to security screening and present a valid photo I.D. Please allow at least 15 minutes prior to the meeting for this process.

Dated: August 20, 2018.
Jelessa M. Burney,
Federal Advisory Committee Management Officer.

[FR Doc. 2018-18241 Filed 8-22-18; 8:45 am]

BILLING CODE 8320-01-P